DEPARTMENT OF THE INTERIOR

National Park Service

[NPS-WASO-NAGPRA-NPS0034482; PPWOCRADN0-PCU00RP14.R50000]

Notice of Inventory Completion: University of California, Berkeley; Berkeley, CA, and California Department of Parks and Recreation, Sacramento, CA

AGENCY: National Park Service, Interior.

ACTION: Notice.

SUMMARY: The University of California, Berkeley and the California Department of Parks and Recreation have completed an inventory of human remains and associated funerary objects, in consultation with the appropriate Indian Tribes or Native Hawaiian organizations, and have determined that there is a cultural affiliation between the human remains and associated funerary objects and present-day Indian Tribes or Native Hawaiian organizations. Lineal descendants or representatives of any Indian Tribe or Native Hawaiian organization not identified in this notice that wish to request transfer of control of these human remains and associated funerary objects should submit a written request to the University of California, Berkeley. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of California, Berkeley at the address in this notice by October 12, 2022.

FOR FURTHER INFORMATION CONTACT: Dr. Thomas Torma, The University of California, Berkeley; 50 University Hall, 2199 Addison Street, Berkeley, CA 94720, telephone (510) 672-5388, email t.torma@berkeley.edu or Dr. Leslie L. Hartzell, NAGPRA Coordinator, California Department of Parks and Recreation, P.O. Box 942896, Sacramento, CA 94296-0001, telephone (916) 653-5910, email Leslie.Hartzell@parks.ca.gov.

SUPPLEMENTARY INFORMATION: Notice is here given in accordance with the Native American Graves Protection and Repatriation Act (NAGPRA), 25 U.S.C. 3003, of the completion of an inventory of human remains and associated funerary objects that are, variously, under the control of the University of California, Berkeley, Berkeley, CA, and the California Department of Parks and Recreation, Sacramento, CA. The human remains and associated funerary objects were removed from Marin County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of California, Berkeley and the California Department of Parks and Recreation professional staff in consultation with representatives of the Federated Indians of Graton Rancheria, California and the Guidiville Rancheria of California.

History and Description of the Remains

In March of 1955, human remains representing, at minimum, 43 individuals were removed from sites CA-MRN-80 and CA-MRN-78 in Marin County, CA, by Adam Treganza. These actions appear to have been undertaken at the behest of Robert Power, a restaurateur and collector. Power divided the collection from these sites between California State Parks and the Lowie Museum, now the Phoebe A. Hearst Museum of Anthropology. There is no record of whether the collection was intended to be managed by each recipient separately or by both parties jointly. Additional collections from CA-MRN-80 were made by Fritz A. Riddell on December 29, 1955, and by Albert B. Elsasser in the spring of 1956. No known individuals were identified. No associated funerary objects are present.

In 1952 and 1953, human remains representing, at minimum, 12 individuals were removed from site CA-MRN-284, located in Tomales Bay State Park, Marin County, CA, under the auspices of the University of California Archaeological Survey, by Aubrey Neasham and Clement W. Meighan. No known individuals were identified. The 21 associated funerary objects are one lot of beads, one lot of buttons, one lot of cartridge shells, one lot of charmstones and charmstone fragments, one lot of crystals, one lot of faunal remains, one lot of figurines and figurine fragments, one lot of glass fragments, one lot of metal fragments, one lot of mortars and pestles, one lot of nails, one lot of pendants, one lot of pestles, one lot of pipe fragments, one lot of plant matter, one lot of porcelain fragments, one lot of saws, one lot of shells, one lot of sinkers, one lot of stones, and one lot of worked stones and stone tools/objects.

On February 15, 1955, human remains representing, at minimum, one individual were removed from an unknown location on Angel Island in Marin County, CA, by Adán Eduardo Treganza and Albert B. Elsasser. No known individuals were identified. The two associated funerary objects are one lot of buttons and one lot of wood fragments.

Marin County has been the ancestral territory of the Coast Miwok since time immemorial. Based on geographical, kinship, archeological, linguistic, folkloric, oral traditional, and historical information evidence, the present-day Federated Indians of Graton Rancheria are culturally affiliated with the Coast Miwok in Marin County.

Determinations Made by the University of California, Berkeley and California Department of Parks and Recreation

Officials of the University of California, Berkeley and California Department of Parks and Recreation have determined that:

• Pursuant to 25 U.S.C. 3001(9), the human remains described in this notice represent the physical remains of 56 individuals of Native American ancestry.

• Pursuant to 25 U.S.C. 3001(3)(A), the 23 objects described in this notice are reasonably believed to have been placed with or near individual human remains at the time of death or later as part of the death rite or ceremony.

• Pursuant to 25 U.S.C. 3001(2), there is a relationship of shared group identity that can be reasonably traced between the Native American human remains and associated funerary objects and the Federated Indians of Graton Rancheria, California.

Additional Requestors and Disposition

Lineal descendants or representatives of any Indian Tribe or Native Hawaiian organization not identified in this notice that wish to request transfer of control of these human remains and associated funerary objects should submit a written request with information in support of the request to Dr. Thomas Torma, The University of California, Berkeley; 50 University Hall, 2199 Addison Street, Berkeley, CA 94720, telephone (510) 672-5388, email t.torma@berkeley.edu, or Dr. Leslie L. Hartzell, NAGPRA Coordinator, California Department of Parks and Recreation, P.O. Box 942896, Sacramento, CA 94296-0001, telephone (916) 653-5910, email Leslie.Hartzell@parks.ca.gov, by October 12, 2022. After that date, if no additional requestors have come forward, transfer of control of the human remains and associated funerary objects to the Federated Indians of Graton Rancheria, California may proceed.

The University of California, Berkeley and the California Department of Parks and Recreation are responsible for notifying the Federated Indians of Graton Rancheria, California and the Guidiville Rancheria of California that this notice has been published.

Dated: September 1, 2022.
Melanie O'Brien,
Manager, National NAGPRA Program.

[FR Doc. 2022-19619 Filed 9-9-22; 8:45 am]

BILLING CODE 4312-52-P